FEDERAL ELECTION COMMISSION

Sunshine Act Meetings

AGENCY: Federal Election Commission.

FEDERAL REGISTER CITATION OF PREVIOUS ANNOUNCEMENT: 79 FR 14512 (March 14, 2014).

DATE and TIME: Tuesday, March 18, 2014 at 10:00 a.m.

PLACE: 999 E Street NW., Washington, DC (Ninth Floor).

STATUS: This meeting will be open to the public.

CHANGES IN THE MEETING: The Commission will also discuss: FY 14 Management Plan

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer. Telephone: (202) 694-1220

Shawn Woodhead Werth,
Secretary and Clerk of the Commission.

[FR Doc. 2014-06097 Filed 3-20-14; 8:45 am]

BILLING CODE 6715-01-P